DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Nautical Discrepancy Reporting System.

OMB Control Number: 0648-0007.

Form Number(s): None.

Type of Request: Regular (extension of a currently approved information collection).

Number of Respondents: 300.

Average Hours per Response: 30 minutes.

Burden Hours: 150.

Needs and Uses: This request is for extension of a currently approved information collection.

National Oceanic and Atmospheric Administration (NOAA) Office of Coast Survey is the nation's nautical chartmaker, maintaining and updating over a thousand charts covering the 3.5 million square nautical miles of coastal waters in the U.S. Exclusive Economic Zone and the Great Lakes. Coast Survey also writes and publishes the United States Coast Pilot®, a series of nine nautical books that supplement nautical charts with essential marine information that cannot be shown graphically on the charts and are not readily available elsewhere.

Coast Survey solicits information through the online Nautical Discrepancy Reporting System (http://ocsdata.ncd.noaa.gov/idrs/discrepancy.aspx).

Data obtained through this system is used to update U.S. nautical charts and the United States Coast Pilot.

Affected Public: Business or other for-profit; individuals or households; not-for-profit institutions; federal government; state, local or tribal government.

Frequency: On occasion.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: March 28, 2017.
Sarah Brabson,
NOAA PRA Clearance Officer.

[FR Doc. 2017-06438 Filed 3-31-17; 8:45 am]

BILLING CODE 3510-JE-P